FEDERAL COMMUNICATIONS COMMISSION

47 CFR Part 73

[MM Docket No. 00-168; DA 14-464]

Television Broadcasters; Online Political File Deadline

AGENCY: Federal Communications Commission.

ACTION: Compliance date deadline.

SUMMARY: The Media Bureau reminds television stations not affiliated with the top four national networks and those licensed to markets below the top 50 that they must begin to comply with the online political file rules on July 1, 2014.

DATES: Effective April 29, 2014. Deadline for compliance is July 1, 2014.

FOR FURTHER INFORMATION CONTACT: Kim Matthews, Media Bureau, Policy Division, 202-418-2154, or email at kim.matthews@fcc.gov.

SUPPLEMENTARY INFORMATION: This is a summary of the Media Bureau's document in MM Docket No. 00-168, DA 14-464, released on April 4, 2014. The full text of this document is available for public inspection and copying during regular business hours in the FCC Reference Center, Federal Communications Commission, 445 12th Street SW., Room CY-A257, Washington, DC 20554. The complete text may be purchased from the Commission's copy contractor, 445 12th Street SW., Room CY-B402, Washington, DC 20554. This document will also be available via ECFS at http://fjallfoss.fcc.gov/ecfs/. Documents will be available electronically in ASCII, Microsoft Word, and/or Adobe Acrobat. Alternative formats are available for people with disabilities (Braille, large print, electronic files, audio format) by sending an email to fcc504@fcc.gov or calling the Commission's Consumer and Governmental Affairs Bureau at (202) 418-0530 (voice), (202) 418-0432 (TTY).

1. In the Second Report and Order in MM Docket Nos. 00-168 and 00-44, 77 FR 27631 (May 11, 2012),¹ the Commission required broadcast television stations to post their public files online in a Commission-hosted database rather than maintaining the files locally at their main studios.² With respect to political file documents that must be maintained in the public file, stations affiliated with the top four national networks (ABC, NBC, CBS, and Fox) licensed to serve communities in the top 50 Designated Market Areas (DMAs) were required to post political file documents online beginning August 2, 2012, but all other stations were exempted from posting their political file documents to their online public file until July 1, 2014.³

¹ Standardized and Enhanced Disclosure Requirements for Television Broadcast Licensee Public Interest Obligations, Extension of the Filing Requirement for Children's Television Programming Report, Second Report and Order, 27 FCC Rcd 4535 (2012) (“Second Report and Order”).

² All permittees and licensees of a “TV or Class A TV station” in the commercial and noncommercial educational broadcast services must maintain a public inspection file, including a political file. See 47 CFR 73.3526(a)(2) and 73.3527(a)(2).

³ See Second Report and Order, 77 FR at 27632, paragraph.3. On August 2, 2012, television stations that were not exempt were required to start uploading documents to the online file on a going-forward basis. With respect to public file documents other than political file material, stations were given six months, until February 4, 2013, to complete the process of uploading their existing public file. Id. at 4580-81, paragraph. 98. See also Television Broadcast Stations Reminded of their Online Public Inspection File Obligations, Public Notice, MM Docket Nos. 00-168 and 00-44, DA 12-2003, rel. Dec. 11, 2012. Stations are not required to upload their political files as they existed prior to the relevant deadline to the online database; rather, they are required only to upload new political file content on a going-forward basis. See Second Report and Order, 77 FR at 27632, paragraph 2 and at 27637, paragraph 33. Existing political file documents not required to be uploaded to the online file must continue to be maintained at the station, however, until the end of the two-year retention period. See 47 CFR 73.3526(e)(6) and 73.3527(e)(5).

2. This document is a reminder to television stations not affiliated with the top four national networks and those licensed to markets below the top 50 that they must begin to comply on July 1, 2014.⁴ As noted above, on that date stations that are currently exempt must start uploading new political file material on a going-forward basis.⁵ These stations are not required to upload political files placed in their public file prior to July 1, 2014; however, they are required to retain those documents at the station until the end of the two-year retention period.⁶ Given that these television stations have already been required to use the online public file for documents other than the political file since August 2, 2012, we do not expect them to have difficulty determining how to upload new political file documents to the online file.

⁴ In the Second Report and Order, the Commission stated that, by July 1, 2013, the Media Bureau would issue a Public Notice seeking comment on the impact of the online posting requirement for the political file so that the Commission can consider whether any changes should be made to the requirement before it takes effect for other stations. See Second Report and Order, 77 FR at 27632, paragraph 3. Consistent with this commitment, the Media Bureau issued a Public Notice on June 25, 2013 seeking comment on, among other things, the experience of stations currently subject to the online political file requirement in posting their political files to the Commission-hosted database and the ability of stations that are currently exempt from the political posting requirement to comply with the July 1, 2014 deadline. Media Bureau Seeks Comment on Online Political File and Petition for Reconsideration Filed by the Television Station Group, Public Notice, MM Docket No. 00-168, DA 13-1440, 78 FR 41014, rel. June 25, 2013. The Media Bureau also sought comment on the Petition for Reconsideration filed by the Television Station Group which requests that the Commission reconsider the online political file requirement in the Second Report and Order. The Commission has not acted upon that Public Notice, or in any way altered the online political file requirement or the July 1, 2014 deadline for compliance by television stations that are currently exempt. Therefore, the requirement as codified—the July 1, 2014 compliance deadline for stations not subject to the 2012 deadline—still stands. 47 CFR 73.3526(b)(3).

⁵ We also remind all television broadcasters subject to the political file rules that documents must be placed in, or uploaded to, the file as soon as possible. Section 73.1943(c) of the Commission's rules provides that records “shall be placed in the political file as soon as possible and shall be retained for a period of two years. As soon as possible means immediately absent unusual circumstances.” 47 CFR 73.1943(c).

⁶ See, supra, note 3.

3. Members of the public and broadcasters will find answers to Frequently Asked Questions (FAQs) on the FCC's Web site (https://stations.fcc.gov/) if they have questions. For further information, you can contact the Licensing Support Hotline at (877) 480-3201 option 2, (717) 338-2888, or (717) 338-2824 (TTY). The Hotline is available to assist with questions Monday through Friday 8:00 a.m. to 6:00 p.m. ET. You may also submit requests and report any errors or problems with the online sites at https://esupport.fcc.gov/request.htm. In order to provide better service, all calls to the Hotline are recorded.

Federal Communications Commission.
William T. Lake,
Chief, Media Bureau.

[FR Doc. 2014-09761 Filed 4-28-14; 8:45 am]

BILLING CODE 6712-01-P